DEPARTMENT OF VETERANS AFFAIRS

Health Services Research and Development Service Merit Review Board; Notice of Meeting

The Department of Veterans Affairs (VA) gives notice under Public Law 92-463, Federal Advisory Committee Act, that a meeting of the Health Services Research and Development Service Merit Review Board will be held August 30 through September 1, 2005 at the Capital Hilton Hotel, 1001 16th Street, NW., Washington, DC 20036.

On Tuesday, August 30, 2005, five subcommittees will convene from 8 a.m. to 5 p.m.—Rehabilitation Outcomes, Implementation and Management Science and Patient Safety Systems, Equity/Women's Health, Nursing Research Initiative (NRI), and Chronic Disease Management. On Wednesday, August 31, 2005, four subcommittees will convene from 8 a.m. to 5 p.m.—Special Populations, Implementation and Management Science and Patient Safety Systems (continuation), Research Methodology, and Chronic Disease Management (continuation). On Thursday, September 1, 2005, four review groups will convene from 8 a.m. to 5 p.m.—Special Populations (continuation), Implementation and Management Science and Patient Safety Systems and Management (continuation), General Health Services Research, and Quality Measurement and Effectiveness. The rooms will be open an hour before the meeting convenes to allow participates to organize their materials and network.

The purpose of the Board is to review research and development applications concerned with the measurement and evaluation of health care services and with testing new methods of health care delivery and management, and nursing research. Applications are reviewed for scientific and technical merit. Recommendations regarding funding are prepared for the Chief Research and Development Officer.

After the review groups meet there will be a debriefing provided to members of the Merit Review Board and HSR&D staff by the chairman of each review group. This debriefing, by teleconference, will be to discuss the outcomes of the review session and to ensure the integrity and consistency of the review process.

Each subcommittee meeting will be open to the public the first day convened for approximately one half-hour from 8 a.m. until 8:30 a.m. to cover administrative matters and to discuss the general status of the program. The remaining portion of the meeting will be closed. The closed portion of the meeting involves discussion, examination, reference to, and oral review of staff and consultant critiques of research protocols and similar documents.

During the closed portion of the meeting, discussion and recommendations will include qualifications of the personnel conducting the studies (the disclosure of which would constitute a clearly unwarranted invasion of personal privacy), as well as research information (the premature disclosure of which would be likely to compromise significantly the implementation of proposed agency action regarding such research projects). As provided by subsection 10(d) of Public Law 92-463, as amended by Law 94-409; closing portions of these meetings is in accordance with 5 U.S.C. 552b(c)(6) and (9)(B).

Those who plan to attend the open session should contact the Assistant Director, Scientific Merit Review (124), Health Services Research and Development Service, Department of Veterans Affairs, 1722 Eye Street, NW., Washington, DC, at least five days before the meeting. For further information, call (202) 254-0212.

By Direction of the Secretary.
Dated: July 19, 2005.
E. Philip Riggin,
Committee Management Officer.

[FR Doc. 05-14814 Filed 7-26-05; 8:45 am]

BILLING CODE 8320-01-M